ENVIRONMENTAL PROTECTION AGENCY

40 CFR Part 63

[EPA-HQ-OAR-2010-0544; FRL-9947-29-OAR]

RIN 2060-AS94

National Emission Standards for Hazardous Air Pollutants for Secondary Aluminum Production

AGENCY: Environmental Protection Agency (EPA).

ACTION: Proposed rule.

SUMMARY: The Environmental Protection Agency (EPA) is proposing to amend the National Emission Standards for Hazardous Air Pollutants for Secondary Aluminum Production (Secondary Aluminum NESHAP). In the “Rules and Regulations” section of this Federal Register, we are publishing a direct final rule, without a prior proposed rule, that amends the final rule that was published in the Federal Register on September 18, 2015, to correct inadvertent errors, to clarify rule requirements for initial performance tests and submittal of malfunction reports, to provide an additional option for new round top furnaces to account for unmeasured emissions during compliance testing and to clarify what constitutes a change in furnace operating mode. The direct final rule also updates Web site addresses for the EPA's Electronic Reporting Tool (ERT) and the Compliance and Emissions Data Reporting Interface (CEDRI). If we receive no adverse comment, we will not take further action on this proposed rule.

DATES: Written comments must be received by July 28, 2016.

Public Hearing. If anyone contacts the EPA requesting to speak at a public hearing by June 20, 2016, we will hold a public hearing on June 28, 2016 on the EPA campus at 109 T.W. Alexander Drive, Research Triangle Park, North Carolina.

ADDRESSES: Submit your comments, identified by Docket ID No. EPA-HQ-OAR-2010-0544, at http://www.regulations.gov.

Follow the online instructions for submitting comments. Once submitted, comments cannot be edited or removed from Regulations.gov. The EPA may publish any comment received to its public docket. Do not submit electronically any information you consider to be Confidential Business Information (CBI) or other information whose disclosure is restricted by statute.

Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

FOR FURTHER INFORMATION CONTACT: Ms. Rochelle Boyd, Sector Policies and Programs Division (D243-02), Office of Air Quality Planning and Standards, U.S. Environmental Protection Agency, Research Triangle Park, North Carolina 27711; telephone number: (919) 541-1390; fax number: (919) 541-3207; and email address: boyd.rochelle@epa.gov.

SUPPLEMENTARY INFORMATION:

I. Why is the EPA publishing this proposed rule?

The EPA is proposing to amend the Secondary Aluminum NESHAP. In addition, the EPA has published a direct final rule amending the Secondary Aluminum NESHAP in the “Rules and Regulations” section of this Federal Register because we view this as a noncontroversial action and anticipate no adverse comment. The direct final rule will correct inadvertent errors, clarify rule requirements for initial performance tests and submittal of malfunction reports, extend to new round top furnaces a compliance testing option to account for unmeasured emissions during compliance testing that is already available to uncontrolled group 1 furnaces and clarify what constitutes a change in furnace operating mode. The direct final rule also updates Web site addresses for the EPA's ERT and CEDRI. We have explained our reasons for this action in the preamble to the direct final rule.

If we receive no adverse comment, we will not take further action on this proposed rule. If we receive adverse comment on all or a distinct portion of this direct final rule, we will publish a timely withdrawal in the Federal Register informing the public that some or all of the direct final rule will not take effect. We would address all public comments in any subsequent final rule based on the proposed rule.

If we receive adverse comment on a distinct provision of the direct final rule, we will publish a timely withdrawal in the Federal Register indicating which provisions we are withdrawing. The provisions that are not withdrawn will become effective on the date set out in the direct final rule, notwithstanding adverse comment on any other provision. We do not intend to institute a second comment period on this action. Any parties interested in commenting must do so at this time.

The regulatory text for this proposal is identical to that for the direct final rule published in the “Rules and Regulations” section of this Federal Register. For further supplementary information, the detailed rationale for this proposal, and the regulatory revisions, see the direct final rule published in the “Rules and Regulations” section of this Federal Register.

II. Does this action apply to me?

Categories and entities potentially regulated by this proposed rule include:

Category | NAICS code ¹
Primary Aluminum Production Facilities | 331312
Secondary Aluminum Production Facilities | 331314
Aluminum Sheet, Plate, and Foil Manufacturing Facilities | 331315
Aluminum Extruded Product Manufacturing Facilities | 331316
Other Aluminum Rolling and Drawing Facilities | 331319
Aluminum Die Casting Facilities | 331521
Aluminum Foundry Facilities | 331524
¹ North American Industry Classification System.

This table is not intended to be exhaustive, but rather provides a guide for readers regarding entities likely to be regulated by this proposed rule. To determine whether your facility is affected, you should examine the applicability criteria in 40 CFR 63.1500. If you have any questions regarding the applicability of any aspect of this action to a particular entity, consult either the air permitting authority for the entity or your EPA regional representative as listed in 40 CFR 63.13.

III. Statutory and Executive Orders

For a complete discussion of the rationale, regulatory text, and all of the administrative requirements applicable to this action, see the direct final rule in the “Rules and Regulations” section of this Federal Register.

Dated: May 27, 2016.
Gina McCarthy,
Administrator.

[FR Doc. 2016-13504 Filed 6-10-16; 8:45 am]

BILLING CODE 6560-50-P